FEDERAL COMMUNICATIONS COMMISSION

47 CFR Part 10

[PS Docket No. 15-91; PS Docket No. 15- 94, FCC 16-127]

Wireless Emergency Alerts; Emergency Alert System

AGENCY: Federal Communications Commission.

ACTION: Final rule; announcement of effective date.

SUMMARY: In this document, the Commission announces that the Office of Management and Budget (OMB) has approved, for a three-year period, the information collection associated with the Commission's Wireless Emergency Alerts (WEA) Report and Order, FCC 16-127 (WEA Report and Order). In the WEA Report and Order, the Commission stated that it would publish a document in the Federal Register announcing the effective date of the rule.

DATES: 47 CFR 10.320(g) published at 81 FR 75710, November 1, 2016, is effective January 12, 2018.

FOR FURTHER INFORMATION CONTACT: Maureen McCarthy, Policy and Licensing Division, Public Safety and Homeland Security Bureau at (202) 418-0011 or Maureen.McCarthy@fcc.gov. For additional information concerning the Paperwork Reduction Act information collection requirements, contact Nicole Ongele at (202) 418-2991.

SUPPLEMENTARY INFORMATION: A summary of the WEA Report and Order was published in the Federal Register on November 1, 2016, 81 FR 75710. The WEA Report and Order promotes the utility of WEA as a life-saving tool. The summary stated that it would publish a document in the Federal Register announcing the effective date of the rules requiring OMB approval. The information collection requirements in § 10.320(g) were approved by OMB under OMB Control No. 3060-1126. With publication of the instant document in the Federal Register, the rule changes to 47 CFR 10.320(g) adopted in the WEA Report and Order are now effective.

If you have any comments on the burden estimates listed below, or how the Commission can improve the collections and reduce any burdens caused thereby, please contact Nicole Ongele, Federal Communications Commission, Room 1-A620, 445 12th Street SW, Washington, DC 20554. Please include the OMB Control Number, 3060-1126, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on March 13, 2017, for the information collection requirements contained in the modifications to 47 CFR 10.320(g).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1126.

The foregoing notice is required by the Paperwork Reduction Act of 1995, Public Law 104-13, October 1, 1995, and 44 U.S.C. 3507.

The total annual reporting burdens and costs for the respondents are as follows:

OMB Control Number: 3060-1126.

OMB Approval Date: March 13, 2017.

OMB Expiration Date: March 31, 2020.

Title: Testing and Logging Requirements for Wireless Emergency Alerts (WEA).

Form Number: N/A.

Respondents: Business or other for-profit entities, and state, local, or tribal government.

Number of Respondents and Responses: 80 respondents; 451,600 responses.

Estimated Time per Response: 0.0000694 hours (2.5 seconds)-2 hours.

Frequency of Response: Monthly and on occasion reporting requirements and recordkeeping requirement.

Obligation To Respond: Statutory authority for these collection is contained in sections 1, 2, 4(i), 4(o), 301, 303(r), 303(v), 307, 309, 335, 403, 624(g), 706, and 715 of the Communications Act of 1934, as amended, 47 U.S.C. 151, 152, 154(i), 154(o), 301, 301(r), 303(v), 307, 309, 335, 403, 544(g), 606, and 615, as well as by sections 602(a), (b), (c), (f), 603, 604 and 606 of the WARN Act, 47 U.S.C. 1202(a), (b), (c), (f), 1203, 1204 and 1206, unless otherwise noted.

Total Annual Burden: 125,390 hours.

Total Annual Cost: No Cost.

Nature and Extent of Confidentiality: Confidentiality protection at least equal to that provided by the federal Freedom of Information Act upon request, but only insofar as those logs pertain to Alert Messages initiated by that emergency management agency.

Privacy Act: No impact(s).

Needs and Uses: Section 10.320 describes the provider alert gateway requirements, specifically with respect to logging. The CMS provider must log the CMAC attributes of all Alert Messages received at the CMS Provider Alert Gateway, including time stamps that verify when the message is received, and when it is retransmitted or rejected by the Participating CMS Provider Alert Gateway. If an Alert Message is rejected, a Participating CMS Provider is required to log the specific error code generated by the rejection. The CMS provider must also maintain a log of all active and cancelled Alert Messages for at least 12 months after receipt of such alert or cancellation and make their alert logs available to the Commission and FEMA upon request. Participating CMS Providers are also required to make alert logs available to emergency management agencies that offer confidentiality protection at least equal to that provided by the federal Freedom of Information Act upon request, but only insofar as those logs pertain to Alert Messages initiated by that emergency management agency.

This information will inform emergency managers whether their alerts are delivered, and if not, why not. We anticipate that the alert log maintenance requirements will serve to ensure that alert logs are available when needed, both to the Commission and to emergency management agencies. These logs have potential to increase their confidence that WEA will work as intended when needed. Alert logs are also necessary to establish a baseline for system integrity against which future iterations of WEA can be evaluated. Without records that can be used to describe the quality of system integrity, and the most common causes of message transmission failure, it will be difficult to evaluate how any changes to WEA could affect system integrity.

Federal Communications Commission.
Katura Jackson,
Federal Register Liaison Officer, Office of the Secretary.

[FR Doc. 2018-00463 Filed 1-11-18; 8:45 am]

BILLING CODE 6712-01-P